DEPARTMENT OF TRANSPORTATION

Federal Aviation Administration

14 CFR Part 71

[Docket No. FAA-2025-5579; Airspace Docket No. 23-AAL-58]

RIN 2120-AA66

Modification of Class E Airspace; Ketchikan International Airport, Ketchikan, AK

AGENCY: Federal Aviation Administration (FAA), DOT.

ACTION: Notice of proposed rulemaking (NPRM).

SUMMARY: This action proposes to modify the Class E airspace area designated as a surface area for an airport and the Class E airspace extending upward from 700 feet above the surface at Ketchikan International Airport, Ketchikan, AK. Additionally, this action proposes administrative modifications to the airport's Class E airspace legal descriptions. These actions would support the safety and management of instrument flight rules (IFR) operations at the airport.

DATES: Comments must be received on or before February 13, 2026.

ADDRESSES: Send comments identified by FAA Docket No. FAA-2025-5579 and Airspace Docket No. 23-AAL-58 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays. FAA Order JO 7400.11K, Airspace Designations and Reporting Points, and subsequent amendments can be viewed online at www.faa.gov/air_traffic/publications/.

FOR FURTHER INFORMATION CONTACT: Nathan A. Chaffman, Federal Aviation Administration, Western Service Center, Operations Support Group, 2200 S 216th Street, Des Moines, WA 98198; telephone (206) 231-3460.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify Class E airspace to support IFR operations at Ketchikan International Airport, Ketchikan, AK.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the Northwest Mountain Regional Office of the Federal Aviation Administration, Air Traffic Organization, Western Service Center, Operations Support Group, 2200 S 216th Street, Des Moines, WA 98198.

Incorporation by Reference

Class E2 and Class E5 airspace designations are published in paragraphs 6002 and 6005, respectively, of FAA Order JO 7400.11, Airspace Designations and Reporting Points, which is incorporated by reference in 14 CFR 71.1 on an annual basis. This document proposes to amend the current version of that order, FAA Order JO 7400.11K, dated August 4, 2025, and effective September 15, 2025. These updates would be published in the next update to FAA Order JO 7400.11. FAA Order JO 7400.11K, which lists Class A, B, C, D, and E airspace areas, air traffic service routes, and reporting points, is publicly available as listed in the ADDRESSES section of this document.

The Proposal

The FAA is proposing an amendment to 14 CFR part 71 that would modify the Class E airspace area designated as a surface area for an airport and the Class E airspace extending upward from 700 feet above the surface at Ketchikan International Airport, Ketchikan, AK.

An airspace evaluation was conducted to analyze the airspace containment of a new special procedure at the airport. The evaluation identified several areas where the airspace at Ketchikan was not providing the minimum containment necessary for IFR operations within surface and transitional Class E airspace.

The Class E surface area airspace at the airport does not fully contain IFR departures until reaching the base of the next adjacent controlled airspace, nor does it fully contain the airport's approach procedures when operating less than 1,000 feet above the surface, with the only exception being the Area Navigation (RNAV) (Global Positioning System [GPS])-B approach procedure. FAA Order JO 7400.2, Procedures for Handling Airspace Matters, provides airspace containment guidance, and states that Class E surface airspace may be designated to accommodate: instrument approach procedures and IFR arrival, departure, holding, and en route operations not protected by other controlled airspace. Operational and economical effects were discussed with Anchorage's Air Route Traffic Control Center and Juneau Flight Service Station (Ketchikan's servicing facilities) using FAA policy guidance for establishing and modifying Class E airspace areas. Neither facility desires an expansion of the Class E surface area airspace at Ketchikan International Airport based on multiple factors affecting the location. An expansion of the surface area would create communication issues in known radio blind spots east and southeast of the airport. Radio blind spots are not consistent with surface area placement, as communications capabilities must exist down to the runway surface of an airport, and neither direct nor relayed communications would exist in the identified radio blind spot areas at Ketchikan. Moreover, any expansion of the surface area could cause undesirable economic and operational impacts to the local community by blocking visual flight rules (VFR) access into/out of Ward's Cove and Ketchikan's City Center, amongst other areas. Additionally, a surface area expansion could lead to an expanded reliance on Special VFR clearances for VFR aircraft to operate into/out of/through an expanded surface area when weather conditions exist that would prevent flight in less-than-VFR weather. To supplant the lack of an expanded surface area, Ketchikan International Airport would continue to rely on its Special Air Traffic Rules (14 CFR part 93 Subpart M), Instrument Flight Procedures, Visual Checkpoints, and Special VFR arrival/departure procedures that are all intended to contribute to the airport's overall safety and efficiency.

The airspace review conducted on Ketchikan International Airport also revealed that its transitional Class E airspace extending upward from 700 feet above the surface (Class E5) is not sized properly to contain arriving IFR operations below 1,500 feet above the surface and departing IFR operations until reaching 1,200 feet above the surface. The area immediately surrounding the airport should be expanded to a 4.3-mile radius to better contain the circling portions of the Localizer (LOC) X Runway (RWY) 11, RNAV (GPS)-B, and RNAV (GPS)-C approach procedures. The northwestern portion of the Class E5 airspace should be expanded approximately 3 miles and lengthened approximately 10 miles to better contain arriving and departing IFR operations when utilizing the Instrument Landing System (ILS) Y or LOC Y RWY 11, LOC X RWY 11, and WIGUL ONE DEPARTURE instrument flight procedures. The southeast portion of the Class E5 airspace should be expanded by approximately 2 miles, lengthened by approximately 1 mile, and re-oriented to the south by approximately 10 degrees to better contain arriving and departing IFR operations when utilizing the ILS Y or LOC Y RWY 11, RNAV (GPS) RWY 11, ILS Z or LOC Z RWY 11, KETCHIKAN SIX DEPARTURE (Obstacle), ANNETTE THREE DEPARTURE (RNAV), DOOZI TWO DEPARTURE (RNAV), and UDENE THREE DEPARTURE (RNAV) procedures. Further transitional containment above 1,200 feet above the surface is provided by the “Southeast Class E6” airspace the extends upward from 1,200 feet above the surface.

Lastly, the airspace review identified administrative errors within the Ketchikan Class E airspace legal descriptions. Ketchikan's geographic location (airport reference point) should be updated to reflect the FAA's database, and the airspace areas should be described using the updated location. If adopted, this change would create a negligible shift in the airspace's lateral boundaries of approximately 700 feet. Additionally, Ketchikan's Class E airspace areas are partly described in relation to the Ketchikan LOC. Any reference to its LOC should be removed as it is no longer needed to describe the airspace. Furthermore, the Ketchikan Class E Surface Area Airspace contains a cut-out at the northwestern portion of the airspace near Ward's Cove that is described using five named points. Of the five, only three of the listed points within the description's text header are usable as a reference due to their respective geographic locations, and one point is listed within the description body instead of its text header. “East Island” and “Decoy Benchmark” should be removed as references, and the reference to the “Refuge Cove State Recreation Site Picnic Area” should be shortened to “Refuge Cove State Recreation Site” and moved from the description's body to its text header.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1G, FAA National Environmental Policy Act Implementing Procedures, prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11K, Airspace Designations and Reporting Points, dated August 4, 2025, and effective September 15, 2025, would be amended as follows:

Paragraph 6002 Class E Airspace Areas Designated as Surface Areas.

* * * * *

AAL AK E2 Ketchikan, AK [Amended]

Ketchikan International Airport, AK

(Lat. 55°21′15″ N, long. 131°42′40″ W)

Danger Island

(Lat. 55°24′08″ N, long. 131°45′47″ W)

Refuge Cove Recreation Site

(Lat. 55°24′31″ N, long. 131°45′36″ W)

Wrong Benchmark

(Lat. 55°23′35″ N, long. 131°44′10″ W)

That airspace extending upward from the surface within a 3-mile radius of the airport, within 1.1 miles northeast and 1 mile southwest of the airport's 136° bearing extending to 4 miles southeast, and within 1 mile either side of the airport's 316° bearing extending to 4.7 miles northwest, excluding that airspace within a boundary defined by a line beginning at Refuge Recreation Site, thence to Danger Island, to Wrong Benchmark, thence northeast along the Ward Cove shoreline to the airport's 355° bearing at 3 miles, thence to the point of beginning.

* * * * *

Paragraph 6005 Class E Airspace Areas Extending Upward From 700 Feet or More Above the Surface of the Earth.

* * * * *

AAL AK E5 Ketchikan, AK [Amended]

Ketchikan International Airport, AK

(Lat. 55°21′15″ N, long. 131°42′40″ W)

That airspace extending upward from 700 feet above the surface within a 4.3-mile radius, within 3 miles either side of the airport's 146° bearing extending to 10 miles southeast, within 2.2 miles either side of the airport's 316° bearing extending to 7.8 miles northwest, and within 3.5 miles either side of the airport's 316° bearing extending from 7.8 miles northwest of the airport to 20.2 miles northwest.

* * * * *

Issued in Des Moines, Washington, on December 22, 2025.
B.G. Chew,
Group Manager, Operations Support Group, Western Service Center.

[FR Doc. 2025-24022 Filed 12-29-25; 8:45 am]

BILLING CODE 4910-13-P